DEPARTMENT OF TRANSPORTATION

Federal Motor Carrier Safety Administration

[Docket No. FMCSA-2016-0210]

Qualification of Drivers; Exemption Applications; Vision

AGENCY: Federal Motor Carrier Safety Administration (FMCSA), DOT.

ACTION: Notice of applications for exemptions; request for comments.

SUMMARY: FMCSA announces receipt of applications from 22 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 21, 2016. All comments will be investigated by FMCSA. The exemptions will be issued the day after the comment period closes.

ADDRESSES: You may submit comments bearing the Federal Docket Management System (FDMS) Docket No. FMCSA-2016-0210 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 22 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Gary A. Behrends

Mr. Behrends, 58, has had amblyopia in his right eye since birth. The visual acuity in his right eye is 20/100, and in his left eye, 20/15. Following an examination in 2016, his optometrist stated, “In my medical opinion Gary has sufficient vision to perform the driving tasks required to operate a commercial vehicle.” Mr. Behrends reported that he has driven straight trucks for 40 years, accumulating 400,000 miles, and tractor-trailer combinations for 40 years, accumulating 400,000 miles. He holds an operator's license from Nebraska. His driving record for the last 3 years shows no crashes and no convictions for moving violations in a CMV.

Harry R. Brewer

Mr. Brewer, 53, has a macular scar in his left eye due to a traumatic incident in 1994. The visual acuity in his right eye is 20/20, and in his left eye, 20/60. Following an examination in 2016, his optometrist stated, “In my professional medical opinion, Mr. Harry Rex Brewer has sufficient vision to safely perform the driving tasks necessary to operate a commercial vehicle.” Mr. Brewer reported that he has driven straight trucks for 26 years, accumulating 1.56 million miles. He holds a Class A CDL from Tennessee. His driving record for the last 3 years shows no crashes and no convictions for moving violations in a CMV.

Johnnie B. Bush

Mr. Bush, 69, has had a prosthetic right eye since childhood. The visual acuity in his right eye is no light perception, and in his left eye, 20/20. Following an examination in 2016, his optometrist stated, “Vision is sufficient in the left eye to operate a commercial vehicle.” Mr. Bush reported that he has driven straight trucks for 42 years, accumulating 84,000 miles, and tractor-trailer combinations for 42 years, accumulating 2.14 million miles. He holds an operator's license from Mississippi. His driving record for the last 3 years shows no crashes and no convictions for moving violations in a CMV.

Nathan J. Bute

Mr. Bute, 35, has a prosthetic left eye due to a traumatic incident in 2003. The visual acuity in his right eye is 20/20, and in his left eye, no light perception. Following an examination in 2016, his optometrist stated, “It is of my opinion that Nathan's visual condition is stable, & suitable for operation of a commercial vehicle.” Mr. Bute reported that he has driven straight trucks for 7 years, accumulating 109,200 miles. He holds an operator's license from Indiana. His driving record for the last 3 years shows no crashes and no convictions for moving violations in a CMV.

Gary L. Cox

Mr. Cox, 51, has had amblyopia in his right eye since childhood. The visual acuity in his right eye is 20/400, and in his left eye, 20/20. Following an examination in 2016, his optometrist stated, “He has normal color vision and has sufficient vision to perform the driving tasks required to operate a commercial vehicle.” Mr. Cox reported that he has driven straight trucks for 3 years, accumulating 62,400 miles. He holds an operator's license from Kentucky. His driving record for the last 3 years shows no crashes and no convictions for moving violations in a CMV.

Kevin J. Embrey

Mr. Embrey, 43, has had amblyopia in his right eye since childhood. The visual acuity in his right eye is 20/100, and in his left eye, 20/20. Following an examination in 2016, his ophthalmologist stated, “In my medial [sic] opinion, he has sufficient vision to perform the driving task required to operate a commercial vehicle.” Mr. Embrey reported that he has driven straight trucks for 24 years, accumulating 360,000 miles. He holds a Class B CDL from Illinois. His driving record for the last 3 years shows no crashes and no convictions for moving violations in a CMV.

Peter J. Faber

Mr. Faber, 54, has had amblyopia in his left eye since childhood. The visual acuity in his right eye is 20/20, and in his left eye, 20/100. Following an examination in 2016, his ophthalmologist stated, “In my medical opinion, Peter J. Faber, DOB 8/21/1962, has sufficient vision to perform the driving tasks required to operate a commercial vehicle.” Mr. Faber reported that he has driven tractor-trailer combinations for 5 years, accumulating 600,000 miles. He holds a Class A CDL from Nebraska. His driving record for the last 3 years shows no crashes and no convictions for moving violations in a CMV.

Ricky L. Gillum

Mr. Gillum, 49, has had a retinal detachment in his right eye since 2011. The visual acuity in his right eye is 20/400, and in his left eye, 20/20. Following an examination in 2016, his optometrist stated, “I believe Mr. Gillum has sufficient vision to drive a commercial vehicle based on his left eye measurements.” Mr. Gillum reported that he has driven straight trucks for 30 years, accumulating 2.25 million miles, and tractor-trailer combinations for 19 years, accumulating 1.24 million miles. He holds a Class A CDL Ohio. His driving record for the last 3 years shows no crashes and no convictions for moving violations in a CMV.

Johnny E. Hill

Mr. Hill, 45, has enucleation in his right eye due to a traumatic incident in 2013. The visual acuity in his right eye is no light perception, and in his left eye, 20/20. Following an examination in 2016, his optometrist stated, “Mr. Hill meets the vision waiver requirements for a CDL and should be able to operate a commercial vehicle.” Mr. Hill reported that he has driven straight trucks for 2 years, accumulating 168,000 miles, and tractor-trailer combinations for 8 years, accumulating 520,000 miles. He holds a Class AM CDL from Alabama. His driving record for the last 3 years shows no crashes and no convictions for moving violations in a CMV.

Justin A. Hooper

Mr. Hooper, 38, has glaucoma in his right eye due to a traumatic incident in 2012. The visual acuity in his right eye is counting fingers, and in his left eye, 20/20. Following an examination in 2016, his optometrist stated, “In my medical opinion he has adequate vision to operate a commercial motor vehicle.” Mr. Hooper reported that he has driven straight trucks for 17 years, accumulating 765,000 miles, and tractor-trailer combinations for 13 years, accumulating 65,000 miles. He holds a Class A CDL from Missouri. His driving record for the last 3 years shows no crashes and no convictions for moving violations in a CMV.

John R. Horst

Mr. Horst, 71, has had macular atrophy in his right eye due to histoplasmosis since 1980. The visual acuity in his right eye is 20/200, and in his left eye, 20/15. Following an examination in 2016, his optometrist stated, “It is my opinion that Mr. Horst has sufficient vision to perform the driving tasks required to operate a commercial vehicle.” Mr. Horst reported that he has driven straight trucks for 52 years, accumulating 1.09 million miles, and tractor-trailer combinations for 47 years, accumulating 235,000 miles. He holds a Class AM CDL from Pennsylvania. His driving record for the last 3 years shows no crashes and no convictions for moving violations in a CMV.

Robert E. Kelley, Jr.

Mr. Kelley, 55, has amblyopia in his left eye due to a traumatic incident in childhood. The visual acuity in his right eye is 20/20, and in his left eye, 20/50. Following an examination in 2016, his ophthalmologist stated, “Based on the requirements of the DOT the patient has sufficient vision to perform the driving tasks required to operate a commercial vehicle” Mr. Kelley reported that he has driven straight trucks for 17 years, accumulating 255,000 miles, and tractor-trailer combinations for 1 years, accumulating 10,000 miles. He holds an operator's license from Washington. His driving record for the last 3 years shows no crashes and no convictions for moving violations in a CMV.

David L. Manktelow

Mr. Manktelow, 39, has had amblyopia in his left eye since birth. The visual acuity in his right eye is 20/20, and in his left eye, 20/100. Following an examination in 2016, his optometrist stated, “It is my medical opinion that Mr. Manktelow has sufficient vision to operate a commercial vehicle.” Mr. Manktelow reported that he has driven tractor-trailer combinations for 10 years, accumulating 175,000 miles. He holds a Class A CDL from Massachusetts. His driving record for the last 3 years shows no crashes and no convictions for moving violations in a CMV.

James F. McLaughlin

Mr. McLaughlin, 54, has had amblyopia in his left eye since childhood. The visual acuity in his right eye is 20/20, and in his left eye, 20/60. Following an examination in 2016, his optometrist stated, “James has sufficient vision to perform the driving tasks required to operate a commercial vehicle.” Mr. McLaughlin reported that he has driven straight trucks for 35 years, accumulating 700,000 miles. He holds an operator's license from Minnesota. His driving record for the last 3 years shows no crashes and no convictions for moving violations in a CMV.

Derrick P. Moore

Mr. Moore, 37, has had cataract in his right eye since birth. The visual acuity in his right eye is hand motion, and in his left eye, 20/15. Following an examination in 2016, his optometrist stated that Mr. Moore does have sufficient vision to perform the driving tasks required to operate a CMV. Mr. Moore reported that he has driven straight trucks for 21 years, accumulating 420,000 miles. He holds a Class A CDL from Minnesota. His driving record for the last 3 years shows no crashes and no convictions for moving violations in a CMV.

Richard L. Moores

Mr. Moores, 41, has optic neuropathy and maculopathy in his left eye due to a traumatic incident in 1998. The visual acuity in his right eye is 20/20, and in his left eye, 20/400. Following an examination in 2016, his ophthalmologist stated, “In my medical opinion Richard Moores has sufficient central and peripheral vision OD to operate a commercial vehicle.” Mr. Moores reported that he has driven straight trucks for 24 years, accumulating 120,000 miles, and tractor-trailer combinations for 5 years, accumulating 6,250 miles. He holds a Class A CDL from Colorado. His driving record for the last 3 years shows no crashes and no convictions for moving violations in a CMV.

Brian T. Morrison

Mr. Morrison, 42, has optic atrophy in his left eye due to a traumatic incident in 1993. The visual acuity in his right eye is 20/15, and in his left eye, 20/100. Following an examination in 2016, his optometrist stated, “Optic Atrophy . . . The patient has been driving with a commercial driving license since 1996 without accident. [sic] and this adds to my opinion that he can drive safely [sic] at the present time and meets the licenses requirement.” Mr. Morrison reported that he has driven straight trucks for 12 years, accumulating 360,000 miles, and tractor-trailer combinations for 6 years, accumulating 30,000 miles. He holds a Class A CDL from Missouri. His driving record for the last 3 years shows no crashes and no convictions for moving violations in a CMV.

Tad W. Sexsmith

Mr. Sexsmith, 34, has had amblyopia in his left eye since childhood. The visual acuity in his right eye is 20/15, and in his left eye, 20/50. Following an examination in 2016, his optometrist stated, “In my professional opinion, I certify that Tad Sexsmith has sufficient vision abilities to perform the driving tasks required to operate a commercial vehicle.” Mr. Smith reported that he has driven straight trucks for 8 years, accumulating 320,000 miles. He holds a Class B CDL from Washington. His driving record for the last 3 years shows no crashes and no convictions for moving violations in a CMV.

Dennis M. Varga, Jr.

Mr. Varga, 37, has had a prosthetic right eye since birth. The visual acuity in his right eye is no light perception, and in his left eye, 20/15. Following an examination in 2016, his optometrist stated, “Mr. Varga was born with a non-functional right eye and does not have binocular vision. We would request that with his flawless record as a CDL holder, you would grant the necessary medical waiver for him to continue with both inter and intra-state driving privileges.” Mr. Varga reported that he has driven straight trucks for 18 years, accumulating 360,000 miles, and tractor-trailer combinations for 18 years, accumulating 18,000 miles. He holds a Class A CDL from Ohio. His driving record for the last 3 years shows no crashes and no convictions for moving violations in a CMV.

Michael J. Weber

Mr. Weber, 28, has had amblyopia in his left eye since childhood. The visual acuity in his right eye is 20/20, and in his left eye, 20/200. Following an examination in 2016, his ophthalmologist stated, “It is my opinion that Mr. Weber has sufficient vision to perform the driving tasks required to operate a commercial vehicle.” Mr. Weber reported that he has driven straight trucks for 4 years, accumulating 6,000 miles, tractor-trailer combinations for 4 years, accumulating 6,000 miles, and buses for 4 years, accumulating 4,000 miles. He holds an operator's license from New Jersey. His driving record for the last 3 years shows no crashes and no convictions for moving violations in a CMV.

Mark B. Wilmer

Mr. Wilmer, 54, has had amblyopia in his right eye since childhood. The visual acuity in his right eye is 20/100, and in his left eye, 20/20. Following an examination in 2016, his optometrist stated, “With these test results and Mark's past driving record, I feel he is qualified to safely operate a commercial vehicle.” Mr. Wilmer reported that he has driven straight trucks for 3 years, accumulating 900 miles, and tractor-trailer combinations for 20 years, accumulating 30,000 miles. He holds a Class A CDL from Virginia. His driving record for the last 3 years shows no crashes and no convictions for moving violations in a CMV.

Hezekiah Woodrup Sr.

Mr. Woodrup, 62, has a retinal scar in his right eye due to a traumatic incident in childhood. The visual acuity in his right eye is 20/400, and in his left eye, 20/30. Following an examination in 2016, his optometrist stated, “It is in my opinion, that the patient meets vision requirements for use of commercial vehicle and is able to perform the driving tasks required to operate the vehicle.” Mr. Woodrup reported that he has driven straight trucks for 7 years, accumulating 210,000 miles. He holds an operator's license from Maryland. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0210 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0210 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: October 14, 2016.
Larry W. Minor,
Associate Administrator for Policy.

[FR Doc. 2016-25380 Filed 10-19-16; 8:45 am]

BILLING CODE 4910-EX-P